DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: December 7, 2012, 1:00 p.m.-5:00 p.m. EST.

Place: Webinar and Conference Call Format.

Supplementary Information: Status: The meeting will be open to the public. The conference call access will be limited only by availability of telephone ports.

Purpose: The members of the ACICBL will begin the planning required to develop the legislatively mandated 13th Annual Report to the Secretary of Health and Human Services and Congress. The meeting objectives are to: (1) Focus on a relevant topic that will enhance the mission of the Title VII training programs; (2) develop an outline that will inform the development of the 13th Annual Report; (3) provide an update on training programs; and (4) provide an update on the 12th Annual Report.

Agenda: The ACICBL agenda includes an opportunity for each member to offer ideas for the upcoming report, along with identifying consultants in specific areas who could provide expert testimony. The staff writer provided by the Health Resources and Services Administration (HRSA), Bureau of Health Professions, will offer a strategy for outlining the upcoming report. The agenda will be available days prior to the meeting on the HRSA Web site (http://www.hrsa.gov/advisorycommittees/bhpradvisory/acicbl/acicbl.html). Agenda items are subject to change as priorities dictate.

Individuals who plan to participate on the webinar should register at least one day prior to the meeting, using the following webinar information: https://hrsa.connectsolutions.com/r5x1ckkknl6. The conference call-in number is 1-800-857-5750, using the participant passcode 6694174.

Requests to make oral comments or provide written comments to the ACICBL should be sent to Dr. Joan Weiss, Designated Federal Official, at least 3 days prior to the meeting using the address and phone number below. Individuals who plan to participate on the conference call or webinar should notify Dr. Weiss at least 3 days prior to the meeting, using the address and phone number below. Members of the public will have the opportunity to provide comments. Interested parties should refer to meeting subject as the HRSA Advisory Committee on Interdisciplinary, Community-Based Linkages.

For Further information Contact: Anyone requesting information regarding the ACICBL should contact Dr. Joan Weiss, Designated Federal Official within the Bureau of Health Professions, Health Resources and Services Administration, in one of three ways: (1) Send a request to the following address: Dr. Joan Weiss, Designated Federal Official, Bureau of Health Professions, Health Resources and Services Administration, Parklawn Building, Room 9C-05, 5600 Fishers Lane, Rockville, Maryland 20857; (2) call (301) 443-6950; or (3) email jweiss@hrsa.gov. The web address for information on the Advisory Committee is http://www.hrsa.gov/advisorycommittees/bhpradvisory/acicbl/acicbl.html.

Dated: November 16, 2012.
Bahar Niakan,
Director, Division of Policy and Information Coordination.

[FR Doc. 2012-28378 Filed 11-21-12; 8:45 am]

BILLING CODE 4165-15-P